DEPARTMENT OF COMMERCE

International Trade Administration

[A-122-601, A-351-603, C-351-604]

Revocation of Antidumping and Countervailing Duty Orders: Brass Sheet and Strip from Brazil and Canada

AGENCY: Import Administration, International Trade Administration, Department of Commerce.

SUMMARY: On April 1, 2005, the Department of Commerce (“the Department”) initiated sunset reviews of the antidumping duty (“AD”) orders on brass sheet and strip from Brazil and Canada and the countervailing duty (“CVD”) order on brass sheet and strip from Brazil. See Initiation of Five-year (“Sunset”) Reviews, 70 FR 16800 (April 1, 2005). Pursuant to section 751(c) of the Tariff Act of 1930, as amended (“the Act”), the International Trade Commission (“the ITC”) determined that revocation of these orders would not be likely to lead to continuation or recurrence of material injury to an industry in the United States within a reasonably foreseeable time. See Brass Sheet and Strip from Brazil, Canada, France, Germany, Italy, and Japan, 71 FR 14719 (March 23, 2006) (“ITC Final”). Therefore, pursuant to section 751(d)(2) of the Act and 19 CFR 351.222(i)(1)(iii), the Department is revoking the AD orders on brass sheet and strip from Brazil and Canada and the CVD order on brass sheet and strip from Brazil.

EFFECTIVE DATE: May 1, 2005.

FOR FURTHER INFORMATION CONTACT: Brandon Farlander (AD orders) or Darla Brown (CVD order), AD/CVD Operations, Import Administration, International Trade Administration, U.S. Department of Commerce, 14th Street and Constitution Avenue NW, Washington, DC 20230; telephone: (202) 482-0182, (202) 482-2849, respectively.

SUPPLEMENTARY INFORMATION:

Scope of the Orders

The merchandise subject to these AD and CVD orders is coiled, wound-on-reels (traverse wound), and cut-to-length brass sheet and strip (not leaded or tinned) from Brazil and Canada. The subject merchandise has, regardless of width, a solid rectangular cross section over 0.0006 inches (0.15 millimeters) through 0.1888 inches (4.8 millimeters) in finished thickness or gauge. The chemical composition of the covered products is defined in the Copper Development Association (“C.D.A.”) 200 Series or the Unified Numbering System (“U.N.S.”) C2000; these orders do not cover products with chemical compositions that are defined by anything other than C.D.A. or U.N.S. series. The merchandise is currently classifiable under Harmonized Tariff Schedule of the United States (“HTSUS”) item numbers 7409.21.00 and 7409.29.00. The HTSUS item numbers are provided for convenience and customs purposes. The written description remains dispositive.

Background

On January 12, 1987, the Department issued the AD orders on brass sheet and strip from Brazil and Canada. See Antidumping Duty Order: Brass Sheet and Strip from Brazil, 52 FR 1214 (January 12, 1987) and Antidumping Duty Order; Brass Sheet and Strip From Canada, 52 FR 1217 (January 12, 1987). On January 8, 1987, the Department issued the CVD order on brass sheet and strip from Brazil. See Countervailing Duty Order; Brass Sheet and Strip from Brazil, 52 FR 698 (January 8, 1987).

On April 1, 2005, the Department initiated, and the ITC instituted, sunset reviews of the AD orders on brass sheet and strip from Brazil and Canada and the CVD order on brass sheet and strip from Brazil. See Initiation of Five-year (“Sunset”) Reviews, 70 FR 16800 (April 1, 2005).

As a result of its sunset reviews of these orders, the Department found that revocation of the AD orders would be likely to lead to the continuation or recurrence of dumping and that revocation of the CVD order would be likely to lead to continuation or recurrence of a countervailable subsidy. See Brass Sheet and Strip from Brazil, Canada, France, Italy and Japan; Final Results of the Expedited Sunset Reviews of the Antidumping Duty Orders, 70 FR 45650 (August 8, 2005); and Final Results of Expedited Sunset Review: Brass Sheet and Strip from Brazil, 70 FR 67139 (November 4, 2005). The Department notified the ITC of the magnitude of the margin likely to prevail were the AD orders to be revoked and the level of subsidy likely to prevail were the CVD order to be revoked.

On March 23, 2006, the ITC determined, pursuant to section 751(c) of the Act, that revocation of these orders would not be likely to lead to continuation or recurrence of material injury to an industry in the United States within a reasonably foreseeable time. See ITC Final and USITC Publication 3842 (March 2006), entitled Brass Sheet and Strip from Brazil, Canada, France, Germany, Italy, and Japan (Inv. Nos. 701-TA-269 and 731-TA-311-314, 317 and 379 (Second Review)).

Determination

As a result of the determination by the ITC that revocation of these orders is not likely to lead to the continuation or recurrence of material injury to an industry in the United States, the Department, pursuant to section 751(d) of the Act, is revoking the AD orders on brass sheet and strip from Brazil and Canada and the CVD order on brass sheet and strip from Brazil. Pursuant to section 751(d)(2) of the Act and 19 CFR 351.222(i)(2)(i), the effective date of revocation is May 1, 2005 (i.e., the fifth anniversary of the date of publication in the Federal Register of the notices of continuation of these AD and CVD orders). The Department will notify U.S. Customs and Border Protection to discontinue suspension of liquidation and collection of cash deposits on entries of the subject merchandise entered or withdrawn from warehouse on or after May 1, 2005, the effective date of revocation of the AD orders and the CVD order. The Department will complete any pending administrative reviews of these orders and will conduct administrative reviews of subject merchandise entered prior to the effective date of revocation in response to appropriately filed requests for review.

These five-year sunset reviews and notice are in accordance with section 751(d)(2) and published pursuant to section 777(i)(1) of the Act.

Dated: March 23, 2006.
Stephen J. Claeys,
Acting Assistant Secretary for Import Administration.

[FR Doc. E6-4660 Filed 3-29-06; 8:45 am]

BILLING CODE 3510-DS-S